DEPARTMENT OF THE TREASURY

Office of Foreign Assets Control

Additional Designations, Foreign Narcotics Kingpin Designation Act

AGENCY: Office of Foreign Assets Control, Treasury.

ACTION: Notice.

SUMMARY: The U.S. Department of the Treasury 's Office of Foreign Assets Control (“OFAC”) is publishing the names of three individuals and five entities whose property and interests in property have been blocked pursuant to the Foreign Narcotics Kingpin Designation Act (“Kingpin Act”).

DATES: The designation by the Director of OFAC of the three individuals and five entities identified in this notice pursuant to section 805(b) of the Kingpin Act is effective on August 7, 2012.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On August 7, 2012, the Director of OFAC designated the following three individuals and five entities whose property and interests in property are blocked pursuant to section 805(b) of the Kingpin Act.

Individuals

1. MORENO, Daniel (a.k.a. MORENO JR., Daniel Gonzalo), 50 6th Ave., Corozal, Belize; 651 Vista Del Mar, Ladyville, Belize; 561 Vista Del Mar, Ladyville, Belize; DOB 12 Oct 1972; POB Corozal, Belize; Passport 0291622 (Belize) (individual) [SDNTK] Linked To: D'S SUPERMARKET COMPANY LTD.

2. ZABANEH, John (a.k.a. ZABANEH, John Angel), Big Creek, Belize; 3 Magoon St., Dangriga, Belize; Long Coco Caye, Belize; Valley Rd., Stann Creek, Belize; 135 Commerce St., Stann Creek, Belize; Dangriga Town, Stann Creek, Belize; N River Side Docter, Dangriga, Belize; DOB 07 Oct 1954; alt. DOB 02 Oct 1954; POB Belize (individual) [SDNTK] Linked To: MAYAN KING LIMITED; Linked To: MID-SOUTH INVESTMENTS LIMITED; Linked To: CROWN PARADISE ENTERPRISES LTD.; Linked To: BELIZE CHEMICALS LIMITED.

3. ZABANEH, Dion (a.k.a. ZABANEH, Dion Christopher), 68 Bela Vista, Belize City, Belize; 3 Eyre St., Belize City, Belize; 5468 Seashore Dr., Belize City, Belize; DOB 12 May 1974; POB Belize (individual) [SDNTK].

Entities

1. BELIZE CHEMICALS LIMITED (a.k.a. BELIZE CHEMICALS; a.k.a. BELIZE CHEMICALS LTD.), 7292 George Price Blvd., P.O. Box 657, Belmopan, Belize; 10/12 Halfmoon Avenue, Belmopan City, Belize; Tax ID No. GST-SIG 000465 (Belize) [SDNTK].

2. CROWN PARADISE ENTERPRISES LTD. (a.k.a. CROWN PARADISE MARINA), 671 Ecumenical Drive, P.O. Box 64, Dangriga Town, Belize [SDNTK].

3. D'S SUPERMARKET COMPANY LTD. (a.k.a. D'S SUPERSTORE), College Road, Corozal Town, Belize [SDNTK].

4. MAYAN KING LIMITED (a.k.a. MAYAN KING LIMITED EXT.; a.k.a. MAYAN KING LTD.), Dangriga, Stann Creek District, Belize; 21 Mls South Stann Creek Road, Stann Creek District, P.O. Box 64, Dangriga, Belize; P.O. Box 64, Dangriga Town, Stann Creek, Belize; Tax ID No. GST-DGA 015476 (Belize) [SDNTK].

5. MID-SOUTH INVESTMENTS LIMITED (a.k.a. MID-SOUTH INVESTMENT; a.k.a. MIDSOUTH INVESTMENT LTD; a.k.a. MIDSOUTH INVESTMENTS LTD.), 135 Commerce Street, Dangriga, Stann Creek, Belize; 6 Arandas Crescent, Dangriga Town, Belize; P.O. Box 64, Dangriga, Stann Creek, Belize; 671 Ecumenical Dr, DAN, Belize [SDNTK].

Dated: August 7, 2012.
Adam J. Szubin,
Director, Office of Foreign Assets Control.

[FR Doc. 2012-19825 Filed 8-13-12; 8:45 am]

BILLING CODE 4810-AL-P